DEPARTMENT OF LABOR

Employment and Training Administration

[TA-W-50,167]

Bike Athletic Company, Knoxville, TN; Amended Certification Regarding Eligibility To Apply for Worker Adjustment Assistance

In accordance with Section 223 of the Trade Act of 1974 (19 U.S.C. 2273) the Department of Labor issued a Certification of Eligibility to Apply for Worker Adjustment Assistance on December 4, 2002, applicable to workers of Bike Athletic Company, Cutting Department, Knoxville, Tennessee. The notice was published in the Federal Register on December 23, 2002 (67 FR 78256).

The Union of Needletrades, Industrial and Textile Employees, Tennessee/Kentucky requested that the Department expand the certification to include all workers of the subject firm. The Department reviewed the certification for workers of the subject firm. The findings show that the Department issued certification coverage to all workers of the subject firm's Cutting Department.

The investigation conducted for the subject firm was on behalf of workers manufacturing (cut fabric) men's and women's athletic team apparel. The investigation revealed that company imports of men's and women's athletic team apparel increased while production and employment declined during the period of the investigation, thus impacting all workers of the subject firm.

It is the intent of the Department to include all workers of Bike Athletic Company adversely affected by increased imports. Therefore, the Department is amending the certification determination to correctly identify the worker group to read all workers.

The amended notice applicable to TA-W-50,167 is hereby issued as follows:

“All workers of Bike Athletic Company, Knoxville, Tennessee who became totally or partially separated from employment on or after November 21, 2001, through December 4, 2004, are eligible to apply for adjustment assistance under Section 223 of the Trade Act of 1974.”

Signed at Washington, DC this 14th day of January 2003.
Elliott S. Kushner,
Certifying Officer, Division of Trade Adjustment Assistance.

[FR Doc. 03-2862 Filed 2-5-03; 8:45 am]

BILLING CODE 4510-30-P